DEPARTMENT OF TRANSPORTATION

Federal Highway Administration

Notice of Final Federal Agency Actions on Proposed Highway Realignment in California and Nevada

AGENCY: Federal Highway Administration (FHWA), DOT.

ACTION: Notice of limitation on claims for Judicial review of actions by FHWA.

SUMMARY: The Federal Highway Administration (FHWA) is issuing this notice to announce actions taken by FHWA that are final. This notice announces to the public that FHWA, as the National Environmental Policy Act (NEPA) lead agency, circulated a Final Environmental Impact Statement (EIS) and Section De Minimis Determination (October 19, 2018) for the US 50/South Shore Community Revitalization Project (project) and issued a Record of Decision (ROD) (August 2, 2019). The actions relate to a proposed highway realignment project on US Highway 50 (US 50) in the City of South Lake Tahoe, California and Stateline, Nevada.

The project would realign US 50 in the Stateline casino corridor area (postmile 79.00 to postmile 80.44) and convert the existing US 50 roadway, between a location southwest of Pioneer Trail in the City of South Lake Tahoe, California and Lake Parkway in Stateline, Nevada, into a two‐lane local street (one travel lane in each direction). Realigned US 50 would be four lanes (two travel lanes in each direction) with left-turn pockets at intersections; it would begin at a relocated Pioneer Trail intersection to the west of the existing intersection, and proceed south along existing Moss and Echo Roads. The realigned highway would then turn east onto the Montreal Road alignment, passing behind (southeast of) the Heavenly Village Center shopping complex, and continuing along the existing Montreal Road and Lake Parkway alignments. The proposed action includes a new, two-lane roundabout at the intersection of US 50 and Lake Parkway in Stateline, Nevada. The affected segment of existing US 50 is approximately 1.1 miles long.

The existing right-of-way of the segment of US 50 between Pioneer Trail and Lake Parkway—the new “Main Street”—would be relinquished to the City of South Lake Tahoe in California, and Douglas County in Nevada. Realigned US 50 would become California Department of Transportation (Caltrans) and Nevada Department of Transportation (NDOT) right-of-way.

Between Park Avenue and Lake Parkway, the new “Main Street” would be reduced to one travel lane in each direction, with landscaped medians, and turn pockets at major intersections and driveways. Expanded sidewalks, a Class IV bicycle route (i.e., cycle track), and a transit circulator are proposed to be implemented in this section within the tourist core to improve pedestrian safety and encourage use of alternative transportation modes. A pedestrian bridge would be constructed over realigned US 50 approximately 250 feet south of the proposed new intersection at the Harrah's entrance driveway near the California/Nevada state line connecting Van Sickle Bi-State Park to the Stateline area.

The proposed action would result in displacing residents and would construct replacement housing for those residents before removing existing housing and constructing the roadway improvements in California so that residents displaced by the project may be relocated to the newly constructed housing if they so choose during the relocation process.

The action taken by FHWA includes approval of the project.

DATES: By this notice, the FHWA, is advising the public of final agency actions subject to 23 U.S.C. 139(l)(1). A claim seeking judicial review of the Federal agency actions on the highway project will be barred unless the claim is filed on or before __. If the Federal law that authorizes judicial review of a claim provides a time period of less than 150 days for filing such claim, then that shorter time period still applies.

FOR FURTHER INFORMATION CONTACT:

For FHWA: Scott McHenry, Sr. Transportation Engineer, Project Delivery Team, Federal Highway Administration, 650 Capitol Mall, Suite 4-100, Sacramento, California 95814, (916) 498-5854, or email: scott.mchenry@dot.gov. For Caltrans: Laura Loeffler, Senior Environmental Planner, California Department of Transportation, 703 B Street, P.O. Box 911, Marysville, California 95901, (530) 741-4592, or email: laura.loeffler@dot.ca.gov.

For NDOT: Nick Johnson, Chief, Project Management Division, Nevada Department of Transportation, 1263 South Stewart Street, Carson City, Nevada 89712, (775) 888-7318, or email: njohnson@dot.state.nv.us.

SUPPLEMENTARY INFORMATION: The Final Environmental Impact Report (EIR)/EIS/EIS is a joint document prepared by the Tahoe Transportation District (TTD), Tahoe Regional Planning Agency (TRPA), and FHWA and is subject to state and federal environmental review requirements. FHWA, TTD, and TRPA jointly prepared the Final EIR/EIS/EIS pursuant to the requirements of NEPA, the California Environmental Quality Act (CEQA), and the Tahoe Regional Planning Compact (Pub. L. 96-551) and 1980 revision (Compact), Code of Ordinances, and Rules of Procedure. TTD is the lead agency under CEQA. FHWA is the lead agency under NEPA. TRPA is the lead agency for the TRPA EIS pursuant to their Rules of Procedure.

The project proposes to realign US 50 to the southeast of existing US 50 from just west of the Pioneer Trail intersection in California to Lake Parkway in Nevada; reduce the existing right-of-way of the segment of US 50 between Pioneer Trail and Lake Parkway—the new “Main Street”—to one travel lane in each direction, with landscaped medians, and new and/or upgraded bicycle lanes and sidewalks throughout the project site; and construct replacement housing for dislocated residents in the immediate vicinity.

The actions taken by the Federal agencies, and the laws under which such actions were taken, are described in the Final EIR/EIS/EIS for the project, approved on November 9, 2018 by the TTD Board and on November 15, 2018 by the TRPA Governing Board of Directors, and in the FHWA Record of Decision (ROD), issued on August 2, 2019, and in other documents in the FHWA project records. The Final EIR/EIS/EIS and other project records are available by contacting FHWA, at the address provided above. The FHWA Final EIR/EIS/EIS can be viewed and downloaded from the project website at: https://www.tahoetransportation.org/us50. This notice applies to all Federal agency decisions as of the issuance date of this notice and all laws under which such actions were taken, included but not limited to:

1. Council on Environmental Quality regulations (40 CFR 1500 et seq., 23 CFR 771);

2. National Environmental Policy Act (NEPA) (42 U.S.C. 4321-4351 et seq.)

3. Federal-Aid Highway Act of 1970, 23 U.S.C. 109;

4. Fixing America's Surface Transportation Act of 2015;

5. Clean Air Act of 1963, as amended (42 U.S.C. 7401 et seq.)

6. Clean Water Act of 1977 (33 U.S.C. 1344)

7. Federal Land Policy and Management Act of 1976 (Paleontological Resources);

8. Safe Drinking Water Act of 1944, as amended;

9. Noise Control Act of 1979 (42 U.S.C. 4901 et seq.)

10. FHWA Noise Standards, Policies, and Procedures (23 CFR 772);

11. Department of Transportation Act of 1966, Section 4(f) (49 U.S.C. 303);

12. Endangered Species Act of 1973 (16 U.S.C. 1531-1543);

13. Migratory Bird Treaty Act (16 U.S.C. 703-712);

14. National Historic Preservation Act of 1966, as amended (54 U.S.C. 306108 et seq.);

15. Executive Order 11990, Protection of Wetlands;

16. Executive Order 13112, Invasive Species;

17. Executive Order 12898, Federal Actions to Address Environmental Justice and Low-Income Populations;

18. Title VI of Civil Rights Act 1964 (42 U.S.C. 2000d et seq.), as amended.

(Catalog of Federal Domestic Assistance Program Number 20.205, Highway Planning and Construction. The regulations implementing Executive Order 12372 regarding intergovernmental consultation on Federal programs and activities apply to this program.)

Authority: 23 U.S.C. 139(l)(1).

Issued on: August 19, 2019.
Tashia J. Clemons,
Director, Planning and Environment Team, Federal Highway Administration, Sacramento, California.

[FR Doc. 2019-18224 Filed 8-22-19; 8:45 am]

BILLING CODE 4910-RY-P